DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following committee meeting:

Name: Advisory Committee on Immunization Practices (ACIP).

Times and Dates:

8:30 a.m.-6:15 p.m., October 17, 2001.

8 a.m.-4:15 p.m., October 18, 2001.

Place: Atlanta Marriott Century Center, 2000 Century Boulevard, NE, Atlanta, Georgia 30345-3377.

Status: Open to the public, limited only by the space available.

Purpose: The Committee is charged with advising the Director, CDC, on the appropriate uses of immunizing agents. In addition, under 42 U.S.C. 1396s, the Committee is mandated to establish and periodically review and, as appropriate, revise the list of vaccines for administration to vaccine-eligible children through the Vaccines for Children (VFC) program, along with schedules regarding the appropriate periodicity, dosage, and contraindications applicable to the vaccines.

Matters to be Discussed: The agenda will include a discussion on rotavirus vaccine and intussusception; live attenuated influenza vaccine and potential pediatric influenza vaccine recommendations; update on 2001-2002 influenza vaccine supply; hepatitis B recommendation; update on varicella disease and varicella vaccine in the United States: vaccine coverage, vaccine safety and effectiveness, status of child care and school requirements, and decline in varicella disease from active and passive surveillance data; pneumococcal conjugate vaccine: effect of the vaccine on invasive disease during 2000 and on vaccine supply; Institute of Medicine recommendations on thimerosal; updates from the National Immunization Program, Food and Drug Administration, Vaccine Injury Compensation Program, National Institutes of Health, National Vaccine Program, and the National Center for Infectious Diseases; recommended childhood immunization schedule; use of oral polio virus to control outbreaks of poliomyelitis; adult harmonized schedule; receipt of rubella vaccine before pregnancy; Occupational Safety and Health Administration requirement for using safety engineered needles and implications for childhood immunization delivery; adaptation of vaccine formulary selection algorithm to web-accessible tool; and hepatitis A vaccine.

Agenda items are subject to change as priorities dictate.

Contact Person for More Information: Gloria A. Kovach, Program Analyst, Epidemiology and Surveillance Division, National Immunization Program, CDC, 1600 Clifton Road, NE, m/s E61, Atlanta, Georgia 30333. Telephone 404/639-8096.

The Director, Management Analysis and Services Office, has been delegated the authority to sign Federal Register notices pertaining to announcements of meetings and other committee management activities for both the Centers for Disease Control and Prevention and the Agency for Toxic Substances and Disease Registry.

Dated: September 18, 2001.
John Burckhardt,
Acting Director, Management Analysis and Services Office.

[FR Doc. 01-23747 Filed 9-21-01; 8:45 am]

BILLING CODE 4163-18-P